ADVISORY COUNCIL ON HISTORIC PRESERVATION

Notice of Advisory Council on Historic Preservation Quarterly Business Meeting

AGENCY: Advisory Council on Historic Preservation.

ACTION: Notice of Advisory Council on Historic Preservation Quarterly Business Meeting.

SUMMARY: Notice is hereby given that the Advisory Council on Historic Preservation (ACHP) will hold its next quarterly meeting on Thursday, November 6, 2014. The meeting will be held in Room SR325 at the Russell Senate Office Building at Constitution and Delaware Avenues NE., Washington, DC, starting at 8:30 a.m. EST.

DATES: The quarterly meeting will take place on Wednesday, November 6, 2014, starting at 8:30 a.m. EST.

ADDRESSES: The meeting will be held in Room SR325 at the Russell Senate Office Building at Constitution and Delaware Avenues NE., Washington, DC.

FOR FURTHER INFORMATION CONTACT: Cindy Bienvenue, 202-517-0202, cbienvenue@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's resources when their actions affect historic properties. The ACHP is the only entity with the legal responsibility to encourage federal agencies to factor historic preservation into federal project requirements. For more information on the ACHP, please visit our Web site at www.achp.gov.

The agenda for the upcoming quarterly meeting of the ACHP is the following:

Call to Order—8:30 a.m.

I. Chairman's Welcome

II. Swearing in Ceremony

III. Presentation of Chairman's Award for Historic Preservation Achievement

IV. Chairman's Report

V. Historic Preservation Policy and Programs

A. Building a More Inclusive Preservation Program

1. Proposed Presidential Heritage Initiative

2. Congressional Black Caucus Foundation Event

3. Asian-American Pacific Islander Initiative

4. American Latino Heritage Initiative

B. Working with Indian Tribes

1. Proposed ACHP Policy for Tribal Historic Preservation Officers

2. Delegation of Authority to Approve Substitution of Tribal Procedures for Section 106 on Tribal Lands

3. ACHP Native American Affairs Committee

C. Funding for Tribal and State Historic Preservation Programs

D. 50th Anniversary of the National Historic Preservation Act

E. ACHP Legislative Agenda

VI. Section 106 Issues

A. 2015 Section 3 Report to the President

B. Alignment of Section 4f and Section 106 Reviews

C. Major Program Initiatives Update

1. Unified Federal Review for Disaster Recovery Projects

2. Model Covenant Guidance and USPS Report Implementation

VII. ACHP Management Issues

A. ACHP Strategic Plan Update

B. Member Communications

C. Alumni Foundation Report

VIII. New Business

IX. Adjourn

The meetings of the ACHP are open to the public. If you need special accommodations due to a disability, please contact Cindy Bienvenue, 202-517-0202 or cbienvenue@achp.gov, at least seven (7) days prior to the meeting.

Authority: 16 U.S.C. 470j.

Dated: October 20, 2014.
Javier E. Marques,
Associate General Counsel.

[FR Doc. 2014-25300 Filed 10-23-14; 8:45 am]

BILLING CODE 4310-K6-P